SECURITIES AND EXCHANGE COMMISSION

[Release No. 34-86784; File No. SR-NYSE-2019-45]

Self-Regulatory Organizations; New York Stock Exchange LLC; Notice of Filing and Immediate Effectiveness of Proposed Rule Change To Amend Its Price List To Revise the Remove and Adding Liquidity Tiers for Tape B and C Securities

Correction

In notice document 2019-18999 beginning on page 46588 in the issue of Wednesday, September 4, 2019, make the following correction:

On page 46593, in the third column, in the first paragraph, starting in the two last lines “September 24, 2019” should read “September 25, 2019”.

[FR Doc. C1-2019-18999 Filed 9-13-19; 8:45 am]

BILLING CODE 1301-00-P